DEPARTMENT OF COMMERCE

National Oceanic and Atmospheric Administration

RIN 0648-XD770

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 3-day Atlantic Highly Migratory Species (HMS) Advisory Panel (AP) meeting in March 2015. The intent of the meeting is to consider options for the conservation and management of Atlantic HMS. The meeting is open to the public.

DATES: The AP meeting and webinar will be held from 10:30 a.m. to 5 p.m. on Tuesday, March 10, 2015; from 8:30 a.m. to 5 p.m. on Wednesday, March 11, 2015; and from 8:30 a.m. to 12 p.m. on Thursday, March 12, 2015. There will be an introduction for new AP members at 9 a.m. on Tuesday, March 10, 2015.

ADDRESSES: The meeting will be held at the DoubleTree by Hilton Hotel, 8120 Wisconsin Avenue, Bethesda, MD 20814. The meeting presentations will also be available via WebEx webinar/conference call.

On Tuesday, March 10, 2015, the conference call information is phone number 1-800-857-6552; Participant Code: 8099565; and the webinar event address is: https://noaaevents2.webex.com/noaaevents2/onstage/g.php?d=393951018&t=a; event password: NOAA.

On Wednesday, March 11, 2015, the conference call information is phone number 1-800-857-6552; Participant Code: 8099565; and the webinar event address is: https://noaaevents2.webex.com/noaaevents2/onstage/g.php?d=395887510&t=a ; event password: NOAA.

On Thursday, March 12, 2015, the conference call information is phone number 1-800-857-6552; Participant Code: 8099565; and the webinar event address is: https://noaaevents2.webex.com/noaaevents2/onstage/g.php?d=394954698&t=a ; event password: NOAA.

Participants are strongly encouraged to log/dial in fifteen minutes prior to the meeting. NMFS will show the presentations via webinar and allow public comment during identified times on the agenda.

FOR FURTHER INFORMATION CONTACT: Peter Cooper or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); and Amendments 1, 2, 3, 4, 5a, 5b, 6, 7, 8, and 9 to the 2006 Consolidated HMS FMP (April and October 2008, February and September 2009, May and September 2010, April and September 2011, March and September 2012, January and September 2013, April and September 2014), among other things.

The intent of this meeting is to consider alternatives for the conservation and management of all Atlantic tunas, swordfish, billfish, and shark fisheries. We anticipate discussing the following Amendments to the 2006 Consolidated HMS FMP: Draft Amendment 6 on the future of shark fishery, providing updates on Amendment 5b on dusky shark management and Amendment 9 on smoothhound shark management and ongoing stock assessment, reviewing Final Amendment 7 on bluefin tuna management measures, as well as discussing the HMS Essential Fish Habitat 5-Year Review. The meeting will also include discussion of the Electronic Technologies Implementation Plan for Atlantic HMS, implementation of 2014 ICCAT recommendations, and updates on the Atlantic HMS Management-Based Research Priorities document and other research activities, among other updates.

Additional information on the meeting and a copy of the draft agenda will be posted prior to the meeting at: http://www.nmfs.noaa.gov/sfa/hms/advisory_panels/hms_ap/meetings/ap_meetings.html.

Special Accommodations

This meeting is physically accessible to people with disabilities. Requests for sign language interpretation or other auxiliary aids should be directed to Peter Cooper at (301) 427-8503 at least 7 days prior to the meeting.

Dated: February 20, 2015.
Alan D. Risenhoover,
Director, Office of Sustainable Fisheries, National Marine Fisheries Service.

[FR Doc. 2015-03894 Filed 2-24-15; 8:45 am]

BILLING CODE 3510-22-P